DEPARTMENT OF DEFENSE

Office of the Secretary

[Docket ID DoD-2014-OS-0087]

Proposed Collection; Comment Request

AGENCY: Office of the Under Secretary of Defense for Personnel and Readiness (Military Personnel Policy), DoD.

ACTION: Notice.

SUMMARY: In compliance with Section 3506(c)(2)(A) of the Paperwork Reduction Act of 1995, the Office of the Under Secretary of Defense (Personnel and Readiness) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 4, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to Office of the Under Secretary of Defense (Personnel and Readiness) (Military Personnel Policy), ATTN: MAJ Justin DeVantier, 4000 Defense Pentagon, Washington, DC 20301-4000 or call at 703-695-5527.

SUPPLEMENTARY INFORMATION: Title; Associated Form; and OMB Number: Record of Military Processing—Armed Forces of the United States; USMEPCOM Form 680-3A-E, DD Form 1966; OMB Control Number 0704-0173.

Needs and Uses: This information collection requirement is necessary to gather the required data for determining eligibility to join the Armed Forces and for establishing personal records on those enlisting. USMEPCOM Form 680-3A-E serves as the initial medical release authorization, processing checklist and security verification form for applicants applying for military service to record qualification requirements. Information collected on USMEPCOM Form 680-3A-E is transferred electronically into DD Form 1966 and helps decrease administration time required to complete the applicant's record.

Affected Public: Individuals or Households.

USMEPCOM Form 680-3A-E

Annual Burden Hours: 155,100 hours.

Number of Respondents: 423,000.

Responses per Respondent: 1.

Total Annual Responses: 423,000.

Average Burden per Response: 22 minutes.

DD Form 1966

Annual Burden Hours: 141,000 hours.

Number of Respondents: 423,000.

Responses per Respondent: 1.

Total Annual Responses: 423,000.

Average Burden per Response: 20 minutes.

Total Annual Burden Hours: 296,100 hours.

Frequency: On Occasion.

USMEPCOM Form 680-3A-E is completed on all applicants at MEPS first contact for processing; testing, medical, and other requirements. The 680-3A-E authorizes the MEPS to collect information to begin the process required to meet enlistment qualifications. The MEPCOM 680-3A-E is the applicant authorization to release to the MEPS a complete transcript of medical records. This release is for the purpose of further evaluation of my medical acceptability under military medical fitness standards. The information collected on USMEPCOM Form 680-3A-E is transferred electronically into the DD Form 1966 after the applicant meets enlistment standards and decides to enlist.

The DD Form 1966 is completed by the applicant and Service recruiter after an oral interview and after the applicant had met all standards for enlistment (aptitude, medical, and conduct standards) mandated by DoD and sponsoring Service and elects to enlist. The information is collected and processed within a one-to two-day period and accompanies the applicant throughout the enlistment process at Military Entrance Processing Stations (MEPS).

Dated: May 30, 2014.
Aaron Siegel,
Alternate OSD Federal Register, Liaison Officer, Department of Defense.

[FR Doc. 2014-12983 Filed 6-3-14; 8:45 am]

BILLING CODE 5001-06-P